DEPARTMENT OF ENERGY

[Docket No. PP-230-3]

Application to Transfer Presidential Permit; International Transmission Company, ITC Holdings Corp, DTE Energy Company

AGENCY: Office of Fossil Energy, DOE.

ACTION: Notice of application.

SUMMARY: International Transmission Company (ITC), ITC Holdings Corp., and DTE Energy Company have jointly applied to transfer Presidential Permit PP-230-2 from ITC to a new corporate entity that will not be affiliated with DTE Energy.

DATES: Comments, protests or requests to intervene must be submitted on or before January 30, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of facilities, in accordance with the regulations at 10 CFR 205.323, the existing permit holder and the transferee are required to file a joint application with DOE that includes a statement of reasons for the transfer.

On April 19, 2001, DOE granted Presidential Permit PP-235-2 to ITC for four existing international electric transmission facilities that cross the U.S.-Canadian border. These permitted facilities include:

(1) One 230,000-volt (230-kV) transmission line, including one 675-MVA phase-shifting transformer connecting the Bunce Creek Station, located in Marysville, Michigan, with Hydro One's Scott Transformer Station, located in Sarnia, Ontario (identified as the B3N facility);

(2) One 230-kV transmission line connecting the Waterman Station, located in Detroit, Michigan, with Hydro One's J. Clark Keith Generating Station, located in Windsor, Ontario (identified as the J5D facility);

(3) One 345-kV transmission line connecting the St. Clair Generating Station, located in East China Township, Michigan, with Hydro One's Lambton Generating Station, located in Moore Township, Ontario (identified as the L4D facility); and

(4) One 230-kV transmission line connecting the St. Clair Generating Station with Hydro One's Lambton Generating Station (identified as the L51D facility).

Presidential permits originally were granted to Detroit Edison for the construction, operation, maintenance, and connection of these facilities. However, as a result of a series of corporate actions and divestitures, these facilities were transferred to ITC.

On January 6, 2003, ITC, ITC Holdings Corp., and DTE Energy Company (collectively, the “Applicants”) jointly filed an application with DOE to transfer Presidential Permit PP-230-2 from ITC to a new corporate entity that will be created following a series of corporate restructurings. The purpose of the joint application is to ensure that the authority contained in the Presidential permit will continue in force and be transferred from one corporate entity to the next as the series of corporate restructurings are accomplished and the subject facilities are voluntarily transferred. In the instant application, the Applicants indicate that there will be no physical changes to any of the existing permitted facilities and that the subject facilities will continue to be operated in accordance with all of the terms and conditions contained in Presidential Permit PP-230-2.

The Applicants are expecting that the Federal Energy Regulatory Commission will take final action on the series of corporate restructurings by February 20, 2003, and the Applicants have requested that DOE expedite the processing of this application so that a final decision on the request to transfer the Presidential permit be completed by that date. Accordingly, DOE has shortened the comment period for this proceeding to 15 days.

Procedural Matters: Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Comments on the joint application to transfer Presidential Permit PP-230-2 should be clearly marked with Docket PP-230-3. Additional copies are to be filed directly with M. Douglas Dunn, Milbank, Tweed, Hadley & McCloy LLP, 1 Chase Manhattan Plaza, New York, NY 10005, R. Michael Sweeney and Bonnie A. Suchman, Troutman Sanders LLP, 401 9th Street, NW., Suite 1000, Washington, DC 20004, and Raymond O. Sturdy, Jr., DTE Energy Company, 2000 2nd Avenue, Detroit, MI 48226.

Before a Presidential permit may be issued or amended, the DOE must determine that the proposed action will not adversely impact on the reliability of the U.S. electric power supply system. In addition, DOE must consider the environmental impacts of the proposed action (i.e., granting the Presidential permit, with any conditions and limitations, or denying the permit) pursuant to the National Environmental Policy Act of 1969. DOE also must obtain the concurrence of the Secretary of State and the Secretary of Defense before taking final action on a Presidential permit application.

Copies of this application will be made available, upon request, for public inspection and copying at the address provided above or by accessing the Fossil Energy Home Page at http://www.fe.doe.gov. Upon reaching the Fossil Energy Home page, select “Electricity Regulation,” and then “Pending Procedures” from the options menus.

Issued in Washington, DC, on January 10, 2003.
Anthony J. Como,
Deputy Director, Electric Power Regulation, Office of Coal & Power Import/Export, Office of Coal & Power Systems, Office of Fossil Energy.

[FR Doc. 03-881 Filed 1-14-03; 8:45 am]

BILLING CODE 6450-01-P